ENVIRONMENTAL PROTECTION AGENCY

[FRL-8246-3]

Science Advisory Board Staff Office; Notification of a Meeting of the Science Advisory Board

AGENCY: Environmental Protection Agency (EPA).

ACTION: Notice.

SUMMARY: The EPA Science Advisory Board (SAB) Staff Office announces a public face-to-face meeting of the chartered SAB to: (1) Discuss science use in disaster response programs; (2) conduct a quality review of the draft SAB Report on Office of Pollution Prevention and Toxics (OPPT) Estimation Programs Interface Suite; and (3) continue planning for upcoming SAB meetings.

DATE: The meeting dates are Tuesday, December 12, 2006, from 8:30 a.m. to 5:30 p.m. through Thursday, December 14, 2006, from 8:30 a.m. to 12 p.m. (Eastern Time).

ADDRESSES: The meeting will be held at the Four Points by Sheraton Washington, DC Downtown hotel, 1201 K Street, NW., Washington, DC 20005, phone (202) 289-7600.

FOR FURTHER INFORMATION CONTACT: Members of the public who wish to obtain further information about this meeting may contact Mr. Thomas O. Miller, Designated Federal Officer (DFO), by mail at EPA SAB Staff Office, (1400F), U.S. EPA, 1200 Pennsylvania Avenue, NW., Washington, DC 20460; by telephone at (202) 343-9982; by fax at (202) 233-0643; or by e-mail at: miller.tom@epa.gov. The SAB mailing address is: U.S. EPA, Science Advisory Board (1400F), 1200 Pennsylvania Ave., NW., Washington, DC 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background

The SAB is considering advising the Agency on the use of science in environmental disaster response. The SAB has invited several non-EPA experts to discuss their experiences with disaster response situations to explore how science might be better applied to future disasters. The chartered SAB will also conduct a quality review of the draft SAB Report on Office of Pollution Prevention and Toxics (OPPT) Estimation Programs Interface Suite. Background information on this advisory subject can be found in a Federal Register Notice published February 1, 2006 (1 FR 8578-8580). Finally, the SAB will discuss plans for future meetings.

Availbility of Meeting Materials

Materials in support of this meeting will be placed on the SAB Web site at http://www.epa.gov/sab in advance of this meeting.

Procedures for Providing Public Input

Interested members of the public may submit relevant written or oral information for the SAB to consider during the advisory process.

Oral Statements: In general, individuals or groups requesting an oral presentation at a public meeting will be limited to five minutes per speaker, with no more than one hour for all speakers. Interested parties should contact Mr. Miller, DFO, at the contact information provided above, by December 6, 2006, to be placed on the public speaker list for the December 12-14, 2006 meeting.

Written Statements: Written statements should be received in the SAB Staff Office by December 6, 2006, so that the information may be made available to the SAB for their consideration prior to this meeting. Written statements should be supplied to the DFO in the following formats: One hard copy with original signature, and one electronic copy via e-mail to: miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: November 16, 2006.
Anthony Maciorowski,
Associate Director for Science, EPA Science Advisory Board Staff Office.

[FR Doc. E6-19747 Filed 11-21-06; 8:45 am]

BILLING CODE 6560-50-P